NATIONAL SCIENCE FOUNDATION

Notice of Permit Applications Received Under the Antarctic Conservation Act of 1978 (Pub. L. 95-541)

AGENCY: National Science Foundation.

ACTION: Notice of permit applications received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by August 14, 2009. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant: Charles D. Amsler, Jr., Department of Biology, University of Alabama, Birmingham, AL 35294-1170.

Permit Application No. 2010-007.

Activity for Which Permit Is Requested

Take and Introduce Non-indigenous Species into Antarctica. The applicant plans to collect a number of filamentous brown algal endophytes for identification and additional extract bioassays back in the States. The applicant will use previously collected Antarctic macro algae in culture to perform feeding bioassays where amphipods are offered algae from culture and extract bioassays where the effects of secondary metabolites extracted from large macro algae are measured on algae from culture. Spores will be released from cultured endophytic algae and to expose macrophytes to cell-free extracts to test for oxidative burst defenses in the macrophytes. The experiments will be conducted to gain a better understanding of epiphytic and endophytic algae (both filamentous macroalgae and diatoms) with larger macroalgae and with mesoherbivores such as amphipods.

Location

Palmer Station, Anvers Island, Antarctica.

Dates

January 2, 2010 to July 31, 2011.

Nadene G. Kennedy,
Permit Officer, Office of Polar Programs.

[FR Doc. E9-16691 Filed 7-14-09; 8:45 am]

BILLING CODE 7555-01-P